DEPARTMENT OF COMMERCE

International Trade Administration

[A-351-840]

Certain Orange Juice From Brazil: Final Results of the Expedited Sunset Review of the Antidumping Duty Order

AGENCY: Import Administration, International Trade Administration, Department of Commerce.

SUMMARY: On February 1, 2011, the Department of Commerce (the Department) initiated a sunset review of the antidumping duty order on certain orange juice (OJ) from Brazil, pursuant to section 751(c) of the Tariff Act of 1930, as amended (the Act). The Department has conducted an expedited (120-day) sunset review of this order pursuant to 19 CFR 351.218(e)(1)(ii)(C)(2). As a result of this sunset review, the Department finds that revocation of the antidumping duty order would be likely to lead to the continuation or recurrence of dumping.

DATES: Effective Date: May 26, 2011.

FOR FURTHER INFORMATION: Hector Rodriguez or Elizabeth Eastwood, AD/CVD Operations, Office 2, Import Administration, International Trade Administration, U.S. Department of Commerce, 14th Street and Constitution Avenue, NW., Washington, DC 20230; telephone: (202) 482-0629 and (202) 482-3874, respectively.

SUPPLEMENTARY INFORMATION:

Background

On February 1, 2011, the Department published the notice of initiation of the first sunset review of the antidumping duty order on OJ from Brazil, pursuant to section 751(c) of the Act. See Initiation of Five-Year (“Sunset”) Review, 76 FR 5563 (Feb. 1, 2011) (Notice of Initiation).

The Department received two separate notices of intent to participate from Florida Citrus Mutual, Citrus World, Inc., and Peace River Citrus Products, Inc. (the petitioners) and from Southern Gardens Citrus Processing Corporation (Southern Gardens), a producer in the United States of a domestic like product. Both the petitioners and Southern Gardens (collectively, the domestic interested parties) claimed interested party status under sections 771(9)(C) and (D) of the Act as producers of OJ in the United States.

The Department received adequate substantive responses to the Notice of Initiation from the domestic interested parties within the 30-day deadline specified in 19 CFR 351.218(d)(3)(i). We received no substantive responses from respondent interested parties with respect to the order covered by this sunset review. As a result, pursuant to section 752(c)(3)(B) of the Act and 19 CFR 351.218(e)(1)(ii)(C)(2), the Department conducted an expedited (120-day) sunset review of the antidumping duty order on OJ from Brazil.

Scope of the Order

The scope of the order includes certain orange juice for transport and/or further manufacturing, produced in two different forms: (1) Frozen orange juice in a highly concentrated form, sometimes referred to as frozen concentrated orange juice for manufacture (FCOJM); and (2) pasteurized single-strength orange juice which has not been concentrated, referred to as not-from-concentrate (NFC). At the time of the filing of the petition, there was an existing antidumping duty order on frozen concentrated orange juice (FCOJ) from Brazil. See Antidumping Duty Order; Frozen Concentrated Orange Juice From Brazil, 52 FR 16426 (May 5, 1987). Therefore, the scope of the order with regard to FCOJM covers only FCOJM produced and/or exported by those companies which were excluded or revoked from the pre-existing antidumping order on FCOJ from Brazil as of December 27, 2004. Those companies are Cargill Citrus Limitada, Coinbra-Frutesp (SA), Fischer S.A. Comercio, Industria, and Agricultura, Montecitrus Trading S.A., and Sucocitrico Cutrale, S.A.

Excluded from the scope of the order are reconstituted orange juice and frozen concentrated orange juice for retail (FCOJR). Reconstituted orange juice is produced through further manufacture of FCOJM, by adding water, oils and essences to the orange juice concentrate. FCOJR is concentrated orange juice, typically at 42 Brix, in a frozen state, packed in retail-sized containers ready for sale to consumers. FCOJR, a finished consumer product, is produced through further manufacture of FCOJM, a bulk manufacturer's product.

The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of the order is dispositive.

Analysis of Comments Received

All issues raised in this review are addressed in the “Issues and Decision Memorandum for the Expedited Sunset Review of the Antidumping Duty Order on Certain Orange Juice from Brazil” to Ronald K. Lorentzen, Deputy Assistant Secretary for Import Administration (May 19, 2011) (Decision Memo), which is hereby adopted by this notice. The issues discussed in the Decision Memo include the likelihood of continuation or recurrence of dumping and the magnitude of the margin likely to prevail if the order were revoked. Parties can find a complete discussion of all issues raised in this review and the corresponding recommendations in this public memorandum which is on file in the Central Records Unit, Room 7046 of the main Department building.

In addition, a complete version of the Decision Memo can be accessed directly on the Web at http://ia.ita.doc.gov/frn. The paper copy and electronic version of the Decision Memo are identical in content.

Final Results of Review

We determine that revocation of the antidumping duty order on OJ from Brazil would be likely to lead to the continuation or recurrence of dumping at the following weighted-average percentage margins:

Manufacturers/Exporters/Producers | Weighted- average margin (percent)
Fischer S.A. Comercio, Industria, and Agricultura * | 12.46
Montecitrus Trading S.A. | 60.29
Sucocitrico Cutrale, S.A. | 19.19
All-Others Rate ** | 16.51
* Fischer S.A. Comercio, Industria, and Agricultura is the successor-in-interest to Fischer S/A—Agroindustria.
** The all-others rate in regards to FCOJM applies to Cargill Citrus Limitada and Coinbra-Frutesp (SA). The all-others rate for NFC applies to all other companies not identified above.

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: May 19, 2011.
Ronald K. Lorentzen,
Deputy Assistant Secretary for Import Administration.

[FR Doc. 2011-13088 Filed 5-25-11; 8:45 am]

BILLING CODE 3510-DS-P